DEPARTMENT OF LABOR

Employment and Training Administration

[TA-W-73,351]

Sandy Alexander, Clifton, NJ; Notice of Negative Determination on Reconsideration

On January 21, 2011, the Department of Labor issued an Affirmative Determination Regarding Application for Reconsideration for the workers and former workers of Sandy Alexander, Clifton, New Jersey (subject firm). The Department's Notice was published in the Federal Register on February 2, 2011 (76 FR 5832). The workers are engaged in activities related to the production of printed materials.

Pursuant to 29 CFR 90.18(c), reconsideration may be granted under the following circumstances:

(1) If it appears on the basis of facts not previously considered that the determination complained of was erroneous;

(2) if it appears that the determination complained of was based on a mistake in the determination of facts not previously considered; or

(3) if in the opinion of the Certifying Officer, a mis- interpretation of facts or of the law justified reconsideration of the decision.

The initial investigation resulted in a negative determination based on the findings that the petitioning worker group did not meet the eligibility criteria set forth in the Trade Act of 1974, as amended.

In request for reconsideration, the petitioner supplied new information regarding an alleged shift in production to China.

A careful review of the administrative record and additional information obtained by the Department during the reconsideration investigation confirmed that the subject firm did not shift to, nor acquire from, a foreign country articles that are like or directly competitive with articles produced by the subject firm.

Further, during the reconsideration investigation, the Department reviewed previously-submitted information and determined that there was no mistake in fact and no misinterpretation of the facts or the law.

Conclusion

After reconsideration, I affirm the original notice of negative determination of eligibility to apply for worker adjustment assistance for workers and former workers of Sandy Alexander, Clifton, New Jersey.

Signed in Washington, DC, on this 11th day of August, 2011.
Del Min Amy Chen,
Certifying Officer, Office of Trade Adjustment Assistance.

[FR Doc. 2011-22555 Filed 9-1-11; 8:45 am]

BILLING CODE 4510-FN-P